DEPARTMENT OF COMMERCE

National Oceanic and Atmospheric Administration

[I.D. 013003A]

Receipt of an Application for an Incidental Take Permit (1417)

AGENCY: National Marine Fisheries Service (NMFS), National Oceanic and Atmospheric Administration, Commerce.

ACTION: Notice of availability.

SUMMARY: NMFS has received an application for an incidental take permit (Permit) from Dr. Anne Rudloe, Gulf Specimen Marine Laboratories, Inc. (GSML) pursuant to the Endangered Species Act of 1973, as amended (ESA). As required by the ESA, GSML's application includes a conservation plan designed to minimize and mitigate the impacts of any such take of endangered or threatened species. The Permit application is for the incidental take of ESA-listed adult and juvenile sea turtles associated with otherwise lawful trawling activities in Florida state waters of Bay, Gulf, Franklin, and Wakulla Counties to harvest marine organisms for the purpose of supplying entities conducting scientific research and educational activities. The duration of the proposed Permit is for 9 years. NMFS is furnishing this notice in order to allow other agencies and the public an opportunity to review and comment on this document. All comments received will become part of the public record and will be available for review.

DATES: Written comments from interested parties on the Permit application and Plan must be received at the appropriate address or fax number (see ADDRESSES) no later than 5 p.m. Eastern daylight time on March 17, 2003.

ADDRESSES: Written comments on this action should be addressed to the Chief, Endangered Species Division, Office of Protected Resources, NMFS, 1315 East-West Highway, Silver Spring, MD 20910. Comments may also be sent via fax to 301-713-0376. The application is available for download and review at http://www.nmfs.noaa.gov/prot_res/PR3/Permits/ESAPermit.html. Comments will not be accepted if submitted via e-mail or the Internet.

FOR FURTHER INFORMATION CONTACT: Therese Conant (ph. 301-713-1401, fax 301-713-0376, e-mail Therese.Conant@noaa.gov), or Eric Hawk (ph. 727-570-5312, fax 727-570-5517, e-mail Eric.Hawk@noaa.gov). Comments received will also be available for public inspection, by appointment, during normal business hours by calling 301-713-1401.

SUPPLEMENTARY INFORMATION: Section 9 of the ESA and Federal regulations prohibit the “taking” of a species listed as endangered or threatened. The term “take” is defined under the ESA to mean harass, harm, pursue, hunt, shoot, wound, kill, trap, capture, or collect, or to attempt to engage in any such conduct. NMFS may issue permits, under limited circumstances, to take listed species incidental to, and not the purpose of, otherwise lawful activities. Section 10(a)(1)(B) of the ESA provides for authorizing incidental take of listed species. NMFS regulations governing permits for threatened and endangered species are promulgated at 50 CFR 222.307.

Species Covered in This Notice

The following species are included in the conservation plan and Permit application: loggerhead (Caretta caretta), green (Chelonia mydas), and Kemp's ridley (Lepidochelys kempii) sea turtles.

Background

GSML is a non-profit scientific and educational institution that holds an IRS 501(c)3 certificate of tax exemption and conducts sea turtle research and conservation activities. GSML uses small trawls (under 500 sq. ft. (46.5 sq. m)) without turtle excluder devices (TEDs) to collect marine fish, invertebrates and algae. Trawl times are less than 30 minutes in duration. GSML sells the marine organisms it catches to public aquariums, schools, research laboratories, and biomedical institutions. It utilizes the revenue to support its environmental education and sea turtle protection programs. The issuance of a Permit will allow for the continued harvest of marine fish, invertebrates and algae by GSML.

This application includes the Kemp's ridley, green and loggerhead sea turtles. This fishing activity does not target sea turtles, and while thus far GSML has not taken any turtles with the fishing gear it now uses, a take of one turtle every 3 years is anticipated. No mortalities are expected should this take occur.

The types of activities and effects that are considered under the ESA section 10 permitting process vary in complexity and degree of impact. Despite authorization of some small level of incidental take, the action authorized under a low-effect permit has a minor or negligible effect on the species covered in the permit. The determination of whether an incidental take permit qualifies for the low-effect category must be based on its anticipated impacts prior to implementation of the mitigation plan. Low-effect incidental take permits are categorically excluded from NEPA. NMFS has determined that this Permit (1417) qualifies for the low-effect category. Only one turtle is anticipated to be taken every 3 years, and these takes are expected to be non-lethal and result in zero injury.

Conservation Plan

The conservation plan prepared by GSML describes measures designed to minimize and mitigate the impacts of any incidental takes of ESA-listed sea turtles. It includes provisions to ensure that any captured sea turtles in need of resuscitation are provided such care, per NMFS guidelines. Additionally, any animals needing medical attention or rehabilitation will be cared for by authorized persons and facilities.

The conservation plan will mitigate the impacts of any incidental takes of ESA-listed sea turtles by helping turtles that have been put at risk or harmed due to interactions with other fisheries in the area. Specifically, GSML will remove any turtles it encounters ensnared in fishing lines, nets, and trap ropes. If any of these sea turtles require care, GSML will transport them to a rehabilitation facility.

This conservation plan will be funded through GSML revenues derived from the sale of the marine fish, invertebrates, and algae collected from trawling, donations from membership in its aquarium, and from grants and contracts.

This notice is provided pursuant to section 10(c) of the ESA and the National Environmental Policy Act regulations (40 CFR 1506.6). NMFS will evaluate the application, associated documents, and submitted comments to determine whether the application meets the requirements of the ESA Section 10(a) permitting process. If it is determined that the requirements are met, a permit will be issued for incidental takes of ESA-listed sea turtles under the jurisdiction of NMFS. The final permit determinations will not be completed until after the end of the 30-day comment period and will fully consider all public comments received during the comment period. NMFS will publish a record of its final action in the Federal Register.

Dated: February 10, 2003.
Phil Williams,
Chief, Endangered Species Division, Office of Protected Resources, National Marine Fisheries Service.

[FR Doc. 03-3757 Filed 2-13-03; 8:45 am]

BILLING CODE 3510-22-P